DEPARTMENT OF ENERGY

10 CFR Part 431

[EERE-2017-BT-TP-0047]

Energy Conservation Program: Test Procedure for Small Electric Motors and Electric Motors

AGENCY: Office of Energy Efficiency and Renewable Energy, Department of Energy.

ACTION: Request for information; extension of public comment period.

SUMMARY: On July 31, 2017, the U.S. Department of Energy (DOE) published a request for information (RFI) pertaining to the test procedures for small electric motors and electric motors. The notice provided an opportunity for submitting written comments, data, and information by August 30, 2017. This document announces an extension of the comment period until September 13, 2017.

DATES: The comment period for the RFI, published on July 31, 2017 (82 FR 35468), is extended. DOE will accept written comments, data, and information in response to the RFI received no later than September 13, 2017.

ADDRESSES: Interested persons are encouraged to submit comments by any of the following methods:

• Federal eRulemaking Portal: www.regulations.gov. Follow the instructions for submitting comments.

• Email: SmallElectricMotors2017TP0047@ee.doe.gov. Include docket number EERE-2017-BT-TP-0047 in the subject line of the message. Submit electronic comments in WordPerfect, Microsoft Word, PDF, or ASCII file format, and avoid the use of special characters or any form of encryption.

• Postal Mail: Appliance and Equipment Standards Program, U.S. Department of Energy, Building Technologies Office, Mailstop EE-5B, 1000 Independence Avenue SW., Washington, DC 20585-0121. If possible, please submit all items on a compact disc (CD), in which case it is not necessary to include printed copies.

• Hand Delivery/Courier: Appliance and Equipment Standards Program, U.S. Department of Energy, Building Technologies Office, 950 L'Enfant Plaza SW., 6th Floor, Washington, DC 20024. Telephone: (202) 287-1445. If possible, please submit all items on a CD, in which case it is not necessary to include printed copies.

No telefacsimilies (faxes) will be accepted. For detailed instructions on submitting comments and additional information on the rulemaking process, see section III of this document.

Docket: The docket for this activity, which includes Federal Register notices, comments, and other supporting documents/materials, is available for review at http://www.regulations.gov. All documents in the docket are listed in the http://www.regulations.gov index. However, some documents listed in the index, such as those containing information that is exempt from public disclosure, may not be publicly available.

The docket Web page can be found at http://www.regulations.gov/#!docketDetail;D=EERE-2017-BT-TP-0047. The docket Web page will contain simple instructions on how to access all documents, including public comments, in the docket. See section III for information on how to submit comments through http://www.regulations.gov.

FOR FURTHER INFORMATION CONTACT: Mr. Jeremy Dommu, U.S. Department of Energy, Office of Energy Efficiency and Renewable Energy, Building Technologies Program, EE-5B 1000 Independence Avenue SW., Washington, DC 20585-0121. Telephone: (202) 586-9870. Email: ApplianceStandardsQuestions@ee.doe.gov.

Mary Greene, U.S. Department of Energy, Office of the General Counsel, GC-33, 1000 Independence Avenue SW., Washington, DC 20585-0121. Telephone: (202) 586-1817. Email: mary.greene@hq.doe.gov.

For further information on how to submit a comment, review other public comments and the docket, contact the Appliance and Equipment Standards Program staff at (202) 287-1445 or by email: ApplianceStandardsQuestions@ee.doe.gov.

SUPPLEMENTARY INFORMATION: DOE published a RFI pertaining to the test procedure for small electric motors and electric motors on July 31, 2017. 82 FR 35468. The RFI initiated a data collection process to consider whether to amend DOE's test procedures for small electric motors and electric motors, and whether new test procedures are needed for motors beyond those subject to the existing Federal test procedures. DOE requested written comment, data, and information pertaining to these test procedures by August 30, 2017.

The National Electrical Manufacturers Association (NEMA), an interested party in the matter, requested a two-week extension of the public comment period for the RFI published in the Federal Register on August 17, 2017. (NEMA, No. 6, at p. 1)

DOE believes that extending the comment period to allow additional time for interested parties to submit comments is appropriate. Therefore, DOE is extending the comment period until September 13, 2017 to provide interested parties additional time to prepare and submit comments. Accordingly, DOE will consider any comments received by September 13, 2017 to be timely submitted.

Issued in Washington, DC, on August 23, 2017.
Kathleen B. Hogan,
Deputy Assistant Secretary for Energy Efficiency, Energy Efficiency and Renewable Energy.

[FR Doc. 2017-18408 Filed 8-29-17; 8:45 am]

BILLING CODE 6450-01-P